SMALL BUSINESS ADMINISTRATION

[Disaster Declaration #13717]

New Mexico Disaster #NM-00033 Declaration of Economic Injury

AGENCY: U.S. Small Business Administration.

ACTION: Notice.

SUMMARY: This is a notice of an Economic Injury Disaster Loan (EIDL) declaration for the State of New Mexico, dated 08/13/2013.

Incident: Tres Lagunas Fire.

Incident Period: 05/30/2013 through 07/31/2013.

Effective Date: 08/13/2013.

EIDL Loan Application Deadline Date: 05/13/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties: San Miguel.

Contiguous Counties: New Mexico:

Guadalupe; Harding; Mora; Quay; Santa Fe; Torrance.

The Interest Rates are:

| Percent
Businesses and Small Agricultural Cooperatives without Credit Available Elsewhere | 4.000
Non-Profit Organizations without Credit Available Elsewhere | 2.875

The number assigned to this disaster for economic injury is 137170.

The State which received an EIDL Declaration # is New Mexico.

(Catalog of Federal Domestic Assistance Number 59002)

Dated: August 13, 2013.
Karen G. Mills,
Administrator.

[FR Doc. 2013-20554 Filed 8-22-13; 8:45 am]

BILLING CODE 8025-01-P